NUCLEAR REGULATORY COMMISSION

Notice of Availability of Draft Interim Staff Guidance Document HLWRS-ISG-02, Preclosure Safety Analysis—Level of Information and Reliability Estimation

AGENCY: Nuclear Regulatory Commission.

ACTION: Notice of availability.

FOR FURTHER INFORMATION CONTACT: Jon Chen, Project Manager, Project Management Section B, Division of High-Level Waste Repository Safety, Office of Nuclear Material Safety and Safeguards, U.S. Nuclear Regulatory Commission, Washington, DC 20005-0001. Telephone: (301) 415-5526; fax number: (301) 415-5399; e-mail: jcc2@nrc.gov.

SUPPLEMENTARY INFORMATION:

I. Introduction

The Yucca Mountain Review Plan (YMRP) (July 2003, NUREG-1804, Revision 2) provides guidance for U.S. Nuclear Regulatory Commission (NRC) staff to evaluate a U.S. Department of Energy license application for a geologic repository. NRC has prepared Interim Staff Guidance (ISG) to provide clarifications or refinements to the guidance provided in the YMRP. NRC is soliciting public comments on Draft HLWRS-ISG-02, which will be considered in the final version or subsequent revisions to HLWRS-ISG-02.

II. Summary

The purpose of this notice is to provide the public with an opportunity to review and comment on draft HLWRS-ISG-02, which is to supplement the YMRP for the NRC staff review of design and operation information and reliability estimates required for the preclosure safety analysis. This ISG supplements sections 2.1.1, 2.1.1.2, 2.1.1.4, 2.1.1.6, and 2.1.1.7 of the YMRP. This guidance also provides examples that illustrate commonly used approaches for estimating reliability and the level and types of supporting design and operation information that would be necessary for structures, systems, and components (SSCs) at the geologic repository operations area. A sufficient level of information and adequate technical bases for reliability estimates are needed to demonstrate compliance with the performance objectives in Code of Federal Regulations, Title 10, Part 63, Section 63.111 (10 CFR 63.111).

III. Further Information

The documents related to this action are available electronically at NRC's Electronic Reading Room, at http://www.nrc.gov/reading-rm/adams.html. From this site, a member of the public can access NRC's Agencywide Documents Access and Management System (ADAMS), which provides text and image files of NRC's public documents. The ADAMS accession numbers for the documents related to this notice are provided in the following table. If an individual does not have access to ADAMS or if there are problems in accessing the documents located in ADAMS, contact the NRC Public Document Room Reference (PDR) staff at 1-800-397-4209 or (301) 415-4737, or by e-mail, at pdr@nrc.gov.

ISG | ADAMS accession number
Draft HLWRS-ISG-02, “Preclosure Safety Anaylsis—Level of Information and Reliability Estimation” | ML062360241

These documents may also be viewed electronically on the public computers located at NRC's PDR, O-1F21, One White Flint North, 11555 Rockville Pike, Rockville, MD 20852. The PDR reproduction contractor will copy documents, for a fee. Comments and questions on draft HLWRS-ISG-02 should be directed to the NRC contact listed below by November 13, 2006. Comments received after this date will be considered if it is practical to do so, but assurance of consideration cannot be given to comments received after this date.

Contact: Robert Johnson, Project Manager, Licensing and Inspection Directorate, High-Level Waste Repository Safety Division of the Office of Nuclear Material Safety and Safeguards, U.S. Nuclear Regulatory Commission, Washington, DC 20005-0001. Comments can also be submitted by telephone, fax, or e-mail, which are as follows: telephone: (301) 415-6900; fax number: (301) 415-5399; or e-mail: rkj@nrc.gov.

Dated at Rockville, Maryland, this 25th day of September 2006.
For the Nuclear Regulatory Commission.
N. King Stablein,
Chief, Project Management Section B, Division of High-Level Waste Repository Safety, Office of Nuclear Material Safety and Safeguards.

[FR Doc. E6-16018 Filed 9-28-06; 8:45 am]

BILLING CODE 7590-01-P